DEPARTMENT OF DEFENSE

Department of the Army

Availability of U.S. Patent and U.S. Patent Applications for Non-Exclusive, Exclusive, or Partially Exclusive Licensing

AGENCY: Department of the Army, DoD.

ACTION: Notice of availability.

SUMMARY: In accordance with 35 U.S.C. 209 and 37 CFR part 404 announcement is made of the availability for licensing of the U.S. Patent Applications and U.S. Patent for non-exclusive, exclusive, or partially exclusive licensing listed in under SUPPLEMENTARY INFORMATION. The inventions listed have been assigned to the United States Government as represented by the Secretary of the Army, Washington, DC.

FOR FURTHER INFORMATION CONTACT: Mr. John Biffoni, Intellectual Property Attorney, U.S. Army Soldier and Biological Chemical Command, ATTN: AMSSB-CC (Bldg E4435), Aberdeen Proving Ground, MD 21010-5424; phone: (410) 436-1158, FAX: 410-436-2534 or e-mail: John.Biffon@sbccom.apgea.army.mil.

SUPPLEMENTARY INFORMATION:

1. Title: “Enzymatic Detoxification of Organophosphorus Compounds”

Description: The present invention relates to the expression of a recombinant bacterial enzyme which is useful for detoxifying cholinesterase-inhibiting organophosphorus compounds such as pesticides and chemical nerve agents and the decontamination of substances contaminated with these compounds.

Patent Number: 5,928,927.

Issue Date: July 27, 1999.

2. Title. “One-step Purification Process for Organophosphorus Hydrolase Enzyme.”

Description: The present invention relates to an improved and simplified process for purifying organophosphorus hydrolase enzyme (“OPH” from a recombinant host cell, that expresses this enzyme.

Patent Number: 6,469,145.

Issue Date: October 22, 2002.

Luz D. Ortiz,
Army Federal Register Liaison Officer.

[FR Doc. 03-19098 Filed 7-25-03; 8:45 am]

BILLING CODE 3710-08-M